DEPARTMENT OF HEALTH AND HUMAN SERVICES

Centers for Disease Control and Prevention

[30DAY-38-02]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project: CDC/ATSDR Health Message Development and Testing System—New—Office of the Director, Office of Communication (OD/OC), Centers for Disease Control and Prevention (CDC). The Centers for Disease Control and Prevention (CDC) protects people's health and safety by preventing and controlling diseases and injuries; promotes healthy living through strong partnerships with local, national and international organizations, and enhances health decisions by providing credible information on critical health issues.

Members of the public and health practitioners at all levels require up-to-date, credible information about health and safety in order to make rational decisions. To help support this crucial decision making, CDC has continued to increase and apply its preeminent expertise in the disciplines of public health surveillance, epidemiology, statistical analysis, laboratory investigation and analysis, behavioral risk reduction, technology transfer, prevention research, social marketing, and health communication. CDC applies the science that underpins those disciplines to develop and disseminate credible and practical health information to meet the diverse needs of its primary clients, the people of the United States. Such information affects the health and well-being of people across all stages of life by making our food supply safe, identifying harmful behaviors, and improving our environment.

CDC, and it's sister agency, the Agency for Toxic Substances and Disease Registry (ATSDR), in order to fulfill their mission and mandates, must frequently communicate urgent and sensitive health messages with the general public, members of the public with certain diseases or disabling conditions, and those at a greater risk of exposure to disease or injury causing agents. CDC/ATSDR makes this crucial health information available through many channels including books, periodicals, and monographs; internet Web sites; health and safety guidelines; reports from investigations and emergency responses; public health monitoring and statistics; travel advisories; answers to public inquiries; and health education campaigns.

In addition to serving the public, CDC/ATSDR delivers health information that enables health providers to make critical decisions. For instance, the practicing medical and dental communities and the nation's health care providers are target audiences for numerous official CDC recommendations concerning the diagnosis and treatment of disease, immunization schedules, infection control, and clinical prevention practices. CDC/ATSDR offers technical assistance and training to health professionals as well.

In order to ensure that the public and other key audiences, like health care providers, understand the information, are motivated to take action, and are not offended or react negatively to the messages, it is critical to test messages and materials prior to their production and release. Currently, each CDC program developing health messages is required to submit its message development and testing activities for individual OMB review. Many CDC programs have extremely short deadlines for developing and producing health messages. Some deadlines are imposed by Congress, and others are necessitated by the time-sensitive nature of the work. Many programs cannot accommodate the time required for OMB approval and, therefore, skip the message testing step all together, or resort to testing specific portions of messages with nine or fewer individuals. The science of health communication does not support these programmatic practices. In fact, these undesirable alternatives weaken CDC/ATSDR position as a research-based public health agency providing credible health information that people can count on and use.

CDC may achieve a greater level of efficacy if it can use three routine health message development and testing methods: (1) Central Location Intercept Interviews (i.e. “Shopping mall” interviews); (2) Customer Satisfaction Phone Interviews; and (3) Web-enabled research. Virtually every Center, Institute and Office (CIO) at CDC could achieve a higher level of confidence that health messages were understandable and would provoke no unintended consequences if they were empowered to use these methods efficiently. The CDC Office of Communication therefore requests approval for implementation of a Health Message Development and Testing System that will conduct approximately 64 message testing activities per year for each of three years. A message testing activity is defined as a one-time use of a method to provide direction for a specific health communication program.

For example, if the diabetes program wanted to test messages with Central Location Intercept Interview and Customer Satisfaction Phone Interviews, these activities would be counted as two separate testing activities. If all 64 testing activities were implemented, total respondent burden per year is estimated at 3,200 hours.

While the methods of message development and testing are standard, the instruments and outcomes are unique to the health topic and audience the health message is being developed on and for. This health message development and testing system will allow a timely mechanism for developing and testing health messages on a wide variety of public health topics to ensure that the appropriate message is delivered and received by the American public. This request presents methodology, background information, justification for the process, and sample questionnaires and questions. The estimated annual burden for this data collection is 3,167 hours.

Data collection | Number of activities per year | Number of respondents per activity | Number of responses per respondent | Average burden per response (in hours)
Intercept, touch-screen, & internet interviews | 60 | 100 | 1 | 30/60
Web-enabled panel survey | 1 | 1000 | 1 | 10/60

Dated: June 14, 2002.
Nancy E. Cheal,
Acting Associate Director for Policy, Planning and Evaluation, Centers for Disease Control and Prevention.

[FR Doc. 02-15549 Filed 6-19-02; 8:45 am]

BILLING CODE 4163-18-P